DEPARTMENT OF COMMERCE

National Telecommunications and Information Administration

[Docket No. 031016259-3259-01]

Request for Comment on Improvements to the U.S. Preparation Process for World Radiocommunication Conferences

AGENCY: National Telecommunications and Information Administration.

ACTION: Notice, Request for Comments.

SUMMARY: The General Accounting Office (GAO) in Telecommunications: Better Coordination and Enhanced Accountability Needed to Improve Spectrum Management (GAO-02-096), recommends that the State Department, Federal Communications Commission (FCC) and the National Telecommunications and Information Administration (NTIA) “jointly review the adequacy of the preparation process following the 2003 World Radiocommunication Conference (WRC) and develop recommendations for improvements.”¹ Since the conclusion of the 2003 WRC, NTIA has held meetings with the FCC and the State Department to discuss GAO's recommendations. NTIA initiated staff review and Federal agency review of its own internal WRC preparatory process, including the Radio Conference Subcommittee (RCS) of the Interdepartment Radio Advisory Committee (IRAC). Similarly, the FCC initiated a review of its internal processes used to prepare for the 2003 WRC and assessed whether the process could be improved.² NTIA is currently conducting an overall review of the entire conference preparatory process and how the current process can be improved or modified. By this notice and request for comments, NTIA is soliciting the views of the industry and the public on these issues.

¹ See U.S. General Accounting Office, Telecommunications—Better Coordination and Enhanced Accountability Needed to Improve Spectrum Management, GAO-02-906 at pg. 35 (September 30, 2002).

² See Public Forum to Assess FCC's Preparatory Process for World Radiocommunication Conferences, Public Notice, DA-03-02858 (rel. September 10, 2003).

DATES: Comments must be received no later than November 24, 2003.

ADDRESSES: The National Telecommunications and Information Administration invites the public to submit written comments in paper or electronic form. Comments may be mailed to Darlene A. Drazenovich, International Spectrum Plans and Policy Division, National Telecommunications and Information Administration, U.S. Department of Commerce, Room 4076, 1401 Constitution Avenue, NW., Washington, DC 20230 or e-mailed to ddrazenovich@ntia.doc.gov. Paper submissions should include an electronic version on diskette in ASCII, WordPerfect (please specify version) or Microsoft Word (please specify version) format.

FOR FURTHER INFORMATION CONTACT: Darlene A. Drazenovich, (202) 482-3480, ddrazenovich@ntia.doc.gov, or James Vorhies, (202) 482-3590, jvorhies@ntia.doc.gov, International Spectrum Plans and Policy Division, Office of Spectrum Management, NTIA.

SUPPLEMENTARY INFORMATION:

Background

The International Telecommunication Union (ITU) is an intergovernmental organization within the United Nations that specializes in the field of telecommunications. The ITU brings together international governments and private industries to coordinate the establishment and operation of global telecommunication networks and services. Every three to four years, the ITU convenes World Radiocommunication Conferences (WRCs)—an international forum for world agreement, to review and revise the International Radio Regulations. The Radio Regulations constitute an international treaty on radiocommunications covering the use of the radio-frequency spectrum by radiocommunication services. These conferences set the world stage for future technological development by allocating radio frequency spectrum to radio services, establishing spectrum use coordination methods, setting international rules for radio equipment operation, and identifying spectrum for specific uses such as Third Generation (3G) wireless systems.

The United States is a key player in this important global endeavor because it brings new and innovative technologies to the world community while balancing global security, national defense, and the public interest. NTIA, with the support of the Federal agencies, is partners with the State Department and the FCC in preparing for and participating in these conferences. Over the last several WRC cycles, the United States has made important strides in preparation for these critical intergovernmental meetings. NTIA believes that various aspects of the United States' preparation process to develop and promote U.S. objectives in upcoming conferences can be further improved upon.

The United States preparatory process for World Radiocommunication Conferences follows two related paths—technical and proposal/position preparation. The technical preparation are conducted in the International Telecommunications Union Radiocommunications Sector (ITU-R) Study Group process and includes Federal and Non-Federal Government participation. The U.S. International Telecommunication Advisory Committee (ITAC) is the mechanism by which the U.S. prepares technical studies for WRCs. The General Services Administration chartered this committee to the U.S. State Department as an advisory committee under the Federal Advisory Committee Act (FACA)³. The ITAC-R National Committee (NC) assists the U.S. Government in technical preparations for international meetings and negotiations. Under this advisory committee, the public is afforded the opportunity to participate actively in government decision-making activities. With respect to technical preparations for WRCs, the State Department uses the ITAC to develop technical study inputs to the ITU-R study groups and the CPM to form the technical, operational and regulatory basis for WRC decisions, but does not employ the ITAC to develop preliminary views or proposals directly related to WRCs.

³ See 5 U.S.C. app.

The Federal and non-Federal WRC positions and proposal preparation processes are independent. The Federal preparation process includes NTIA, which represents the views of the administration. NTIA is the President's principal adviser on telecommunications and information policy and manages the Federal Government's use of radio spectrum.⁴ The Radio Conference Subcommittee (RCS) of NTIA's Interdepartment Advisory Committee (IRAC) meets monthly to discuss and approve Federal agency views, positions and proposals, on WRC issues.

⁴ 47 U.S.C. § 902 (2000).

The Non-Federal Preparation is performed by the FCC. The FCC, an independent agency established by the Communications Act of 1934, manages the use of radio spectrum by state and local governments and the private sector. The FCC, as an independent agency, represents the views of its constituents and receives their input on WRC views, positions, and proposals.

Questions for Public Comment

To assist in the assessment, NTIA seeks public comment on any issue of fact, law, or policy that may inform the agency about improvements needed in the WRC preparatory process. Specific comments are requested on the questions below. These questions are designed to assist the public and should not be construed as a limitation on the issues on which public comments may be submitted. Please provide copies of any studies, research and other empirical data referenced in the comments.

1. Federal Government Preparation Process

A. How should NTIA as the President's advisor seek the views and inputs of the non-Federal entities?

B. How can NTIA better educate the commercial sector on the Federal agencies' radiocommunication requirements, and related policies and decisions that affect U.S. conference proposals?

2. WRC Advisory Committee (WAC) Preparation Process

A. The WAC is part of the FCC's WRC preparation process. How can the Federal agencies best participate in the WAC?

3. FCC/NTIA Proposal Coordination Process

A. Should the Federal and non-Federal advisory processes remain independent? Why or why not?

B. Federal views and proposals sent to the FCC represent NTIA's review and modification of RCS inputs and thus the Administration's output, while the FCC sends WAC views and proposals directly to NTIA for consideration without bureau review. Would it improve the process to take a similar approach on both sides (circulation of RCS and WAC inputs, or circulation of NTIA and FCC outputs)?

C. Please specify how communications/coordination between the FCC processes and the Executive Branch processes under the purview of NTIA can be improved? Include in your discussion such topics as involvement of senior agency management, early agreements on WRC positions, NTIA-FCC reconciliation process and timeframes.

D. What steps can be taken to resolve difficult issues? Should timelines be developed in order to identify these issues early in the process?

4. Study Group/National Committee Process Related to WRC Agenda Items

A. Should the U.S. National Committee set objectives and policy regarding WRC studies?

B. Is closer coordination among various study groups required? If so, why and how can this be accomplished?

C. The U.S. Study Group consists of government and non-government participants who prepare for ITU meetings. Should the U.S. Study Group process be guided to align with U.S. WRC goals and objectives? If so why, and by what means?

D. Should a Federal government/non-government position on agenda items and supporting information/studies to pursue U.S. positions be developed, approved and disseminated?

E. To ensure success of U.S. objectives for WRC agenda items, technical studies must begin early in the process. Is it necessary to energize an agenda item and its associated studies by a certain point in the preparation process if no activity has occurred? If so, how can this be accomplished (e.g., what mechanisms and by what point in time)?

5. Forming the WRC Delegation

A. Is there a lack of continuity in leadership between WRC conferences? If so, how can this be better managed?

B. When in the preparation process should the core delegation group, vice-chairs, and principals be formed to begin work? How can these groups be better used to improve the effectiveness and efficiency of the United States' WRC agenda?

C. Agencies, companies, and organizations nominate representatives to be on the U.S. WRC delegation. Is the nominated delegation formed early enough in the process to develop and approve final positions in a timely manner? If not, how can this process be improved?

D. Is the accredited delegation formed early enough to develop and approve U.S. positions, strategy, and fallback positions? If not, how can this be improved?

E. At what point in the preparation process should delegation assignments be made and spokespersons identified?

F. How could the appointment and role of the U.S. Ambassador be improved?

G. Is the United States' negotiating strength improved or hindered by the use of an appointed political representative working with career spectrum managers and ITU experts from other countries?

H. Assuming the continued appointment of a WRC ambassador, at what point does the Ambassador's appointment need to be effective?

I. During conference preparatory meetings, administrations meet to agree on the final report of studies, which is used as the technical basis at a WRC. Is it important to bring the Ambassador on board in some capacity prior to the conference preparatory meeting? If so, how can this be accomplished?

6. Budgeting WRC Activities

A. Funding for the WRC Ambassador has been an ongoing concern. To ensure the Ambassador and the delegation staff are able to complete their missions, is it necessary to provide the Ambassador with an operational budget? Is so, how can representational funds best be used to conduct outreach efforts?

B. What facilities are critical to the functioning of the delegation and the Ambassador at the conference site?

C. Recognizing that agencies and companies send representatives to the delegation to participate in debates, negotiations, and outreach efforts, how should support be provided to cover the Editorial Committee of each WRC?

7. Outreach and Consultations With Other Countries

A. Are consultations with other administrations needed? If so, at what point in the process should they begin?

B. Is it important to work with other countries outside of the ITU study groups and the conference preparatory meeting? If so, why and how can this be improved?

C. Should the Country Contact/Outreach program that is developed and utilized at a conference be maintained between conferences? If so, how can this be accomplished? Who should lead this effort? What role can the private sector play?

D. Should WRC outreach activities be integrated with other international activities of the State Department, NTIA and FCC? If so, how?

E. How effective were the Delegation Consultations prior to WRC-03? Were they started in a timely manner?

8. Training

A. Are trained and qualified Federal Government Spokespersons and issue coordinators available throughout the WRC preparatory process and especially at the Conference?

B. Are training programs needed for spokespersons and delegates? If so, what should they consist of?

C. Is preparatory training needed for general participation in ITU-R Study Groups in support of WRC activities? If so, what should it consist of?

D. What steps should be taken to maintain a cadre of experienced personnel in the Federal government in order for them to assume leadership and spokesperson roles at future WRCs?

9. WRC Domestic Implementation Process

A. In the past, the United States has been faced with challenges regarding the implementation of WRC decisions. What can be done to improve this process?

B. The GAO report noted that Federal agencies are concerned that WRC allocation decisions of primary interest to the Federal government go without action, how can the process be improved to ensure equal treatment of both government and private sector interests?

C. Should FCC/NTIA develop a plan and schedule to complete rulemaking for each WRC agenda item? If so, within what timeframe of WRC completion should the plan be executed?

General Areas

A. In broad terms, what goals should the United States have for WRCs? How should these goals be established?

B. How effective has the United States been in the WRC process?

C. What have been the benefits and costs of regional preparation for WRCs?

D. How often should WRCs occur and what, if any, limitations should the U.S. support regarding WRC agendas.

E. Over the years, there has been concern among WRC participants (government and non-government) regarding staffing issues. Do NTIA and the Federal agencies have sufficient staff with appropriate expertise to support spectrum management activities in the WRC preparation process?

Dated: October 20, 2003.
Kathy Smith,
Chief Counsel.

[FR Doc. 03-26789 Filed 10-22-03; 8:45 am]

BILLING CODE 3510-60-P